DEPARTMENT OF EDUCATION

[Docket No. ED-2012-ICCD-0065]

Agency Information Collection Activities; Comment Request; Loan Cancellation in the Federal Perkins Loan Program

AGENCY: Department of Education (ED), Office of Postsecondary Education (OPE).

ACTION: Notice.

SUMMARY: In accordance with the Paperwork Reduction Act of 1995 (44 U.S.C. chapter 3501 et seq.), ED is proposing an extension of an existing information collection.

DATES: Interested persons are invited to submit comments on or before February 1, 2013.

ADDRESSES: Comments submitted in response to this notice should be submitted electronically through the Federal eRulemaking Portal at http://www.regulations.gov by selecting Docket ID number ED-2012-ICCD-0065 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E117, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Loan Cancellation in the Federal Perkins Loan Program.

OMB Control Number: 1845-0100.

Type of Review: Extension of a currently approved collection.

Respondents/Affected Public: Individuals or households; private Sector (not-for-profit institutions); State, Local, or Tribal Governments.

Total Estimated Number of Annual Responses: 123,022.

Total Estimated Number of Annual Burden Hours: 46,135.

Abstract: This is a request for the renewal of the OMB approval for the recordkeeping requirements contained in 34 CFR 674.53, 674.56, 674.57, 674.58 and 674.59. The information collections in these regulations are necessary to determine Federal Perkins Loan borrower's eligibility to receive certain cancellation benefits and to prevent fraud and abuse of program funds. The requests for cancellation of Perkins Loans are received by the institution to determine the eligibility of the borrower and their loans for the cancellation being requested. The recordkeeping requirements are imposed to ensure accountability or program participants for proper program administration and to justify the payment of funds by the federal government. Not collecting the information described would likely result in a loss of Federal money due to waste, fraud and abuse.

Dated: November 27, 2012.
Darrin A. King,
Director, Information Collection Clearance Division, Privacy, Information and Records Management Services, Office of Management.

[FR Doc. 2012-29109 Filed 11-30-12; 8:45 am]

BILLING CODE 4000-01-P